DEPARTMENT OF COMMERCE

International Trade Administration

[A-570-909]

Certain Steel Nails from the People's Republic of China: Amended Final Results of the Fourth Antidumping Duty Administrative Review

AGENCY: Enforcement and Compliance, International Trade Administration, Department of Commerce.

SUMMARY: The Department of Commerce (“Department”) is amending the final results ¹ of the fourth administrative review of the antidumping duty order on certain steel nails (“nails”) from the People's Republic of China (“PRC”) to correct a certain ministerial error. The period of review is August 1, 2011, through July 31, 2012.

¹ See Certain Steel Nails from the People's Republic of China: Final Results of the Fourth Antidumping Duty Administrative Review, 79 FR 19316 (April 8, 2014) (“Final Results”) and accompanying Issues and Decision Memorandum.

DATES: Effective Date: May 13, 2014.

FOR FURTHER INFORMATION CONTACT: Matthew Renkey or Javier Barrientos, AD/CVD Operations, Office V, Enforcement and Compliance, International Trade Administration, U.S. Department of Commerce, 14th Street and Constitution Avenue NW., Washington, DC 20230; telephone 202-482-2312 or 202-482-2243, respectively.

SUPPLEMENTARY INFORMATION:

Background

On April 3, 2014, the Department disclosed to interested parties its calculations for the Final Results. On April 8, 2014, we received ministerial error comments from Certified Products International Inc. (“CPI”).

Ministerial Errors

Section 751(h) of the Tariff Act of 1930, as amended (“Act”), and 19 CFR 351.224(f) define a “ministerial error” as an error “in addition, subtraction, or other arithmetic function, clerical error resulting from inaccurate copying, duplication, or the like, and any similar type of unintentional error which the Secretary considers ministerial.” CPI states that it submitted a letter stating that it had no shipments during the period of review.² CPI also notes that the Department considered it as a no-shipments company both in the Preliminary Results ³ and in the Final Results,⁴ so its inclusion among the list of those companies being considered as part of the PRC-wide entity in the Appendix to the Issues and Decision Memorandum must be a clerical error.

² See CPI's November 11, 2012, No Shipments Letter.

³ See Certain Steel Nails from the People's Republic of China: Preliminary Results of the Fourth Antidumping Duty Administrative Review, 78 FR 56861 (September 16, 2013) and accompanying Decision Memorandum at 3-4.

⁴ See Final Results, 78 FR at 19317.

After analyzing CPI's ministerial error comments, we determined, in accordance with section 751(h) of the Act and 19 CFR 351.224(e), that we made a ministerial error in listing it among the companies we found to be part of the PRC-wide entity in the Appendix to the Issues and Decision Memorandum. Additionally, after reviewing the list of companies in the Appendix to the Issues and Decision Memorandum, we noted that we inadvertently included other no-shipment companies on the list. The following no-shipment companies are those that we inadvertently included in the list of companies we found to be part of the PRC-wide entity: (1) Besco Machinery Industry (Zhejiang) Co., Ltd.; (2) Certified Products International Inc.; (3) Jining Huarong Hardware Products Co., Ltd.; (4) PT Enterprise Inc.; (5) Shanghai Jade Shuttle Hardware Tools Co., Ltd.; (6) Shanghai Tengyu Hardware Tools Co., Ltd.; and (7) Shanxi Yuci Broad Wire Products Co., Ltd.

Amended Final Results of the Administrative Review

In accordance with section 751(h) of the Act and 19 CFR 351.224(e), we are amending the Final Results of the fourth administrative review of the antidumping duty order on nails from the PRC, specifically the appendix which appears at the end of the Issues and Decision Memorandum, to clarify that the seven companies listed above are no-shipment companies and should not be considered as part of the PRC-wide entity. We note this does not change the dumping margin for any of these companies, and thus their assessment rates and cash deposit rates remain the same as in the Final Results.

We are publishing these amended final results in accordance with sections 751(h) and 777(i)(1) of the Act.

Dated: May 5, 2014.
Paul Piquado,
Assistant Secretary for Enforcement and Compliance.

[FR Doc. 2014-10949 Filed 5-12-14; 8:45 am]

BILLING CODE 3510-DS-P